ENVIRONMENTAL PROTECTION AGENCY

[EPA-HQ-OPP-2015-0066; FRL-9923-90]

Issuance of an Experimental Use Permit

AGENCY: Environmental Protection Agency (EPA).

ACTION: Notice.

SUMMARY: EPA has granted an experimental use permit (EUP) to the following pesticide applicant. An EUP permits use of a pesticide for experimental or research purposes only in accordance with the limitations in the permit.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

This action is directed to the public in general. Although this action may be of particular interest to those persons who conduct or sponsor research on pesticides, the Agency has not attempted to describe all the specific entities that may be affected by this action.

B. How can I get copies of this document and other related information?

The docket for this action, identified by docket identification (ID) number EPA-HQ-OPP-2015-0066 is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUP

EPA has issued the following EUP:

67760-EUP-2. Issuance. Cheminova, Inc. 1600 Wilson Blvd., Suite 700 Arlington, VA 22209. This EUP allows the use of 132 gallons formulated product (137 pounds active ingredient) of the fungicide flutriafol on 600 acres of soybean to evaluate the control of Sudden Death Syndrome and Charcoal Rot. The program is authorized only in the States of Illinois, Indiana, and Iowa. The EUP is effective from March 27, 2015 to March 27, 2016.

Authority: 7 U.S.C. 136 et seq.

Dated: March 23, 2015.
Susan Lewis,
Director, Registration Division, Office of Pesticide Programs.

[FR Doc. 2015-07215 Filed 3-31-15; 8:45 am]

BILLING CODE 6560-50-P